DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of a portion east boundary, a portion of the subdivisional lines, and the 1898 meander lines of the Snake River in section 25, and the subdivision of section 25, and the metes-and-bounds survey of lot 10, in section 25, in T. 10 S., R. 19 E., Boise Meridian, Idaho, Group Number 1257, was accepted January 27, 2009.

The plat representing the dependent resurvey of portions of the south and west boundaries, and a portion of the subdivisional lines, and the subdivision of sections 31 and 32, T. 15 S., R. 36 E., Boise Meridian, Idaho, Group Number 1260, was accepted March 4, 2009.

The plat representing the dependent resurvey of a portion of the subdivisional lines, and the subdivision of sections 5 and 8, T. 16 S., R. 36 E., of the Boise Meridian, Idaho, Group Number 1261, was accepted March 4, 2009.

The plat constituting the entire survey record of the remonumentation of the Boise Meridian Initial Point, Townships 1 North and 1 South, Ranges 1 East and 1 West, Boise Meridian, Idaho, Group Number 1000, was accepted March 12, 2009. This survey was executed at the request of the USDA Forest Service to meet certain administrative and management purposes. The lands surveyed are: The plat representing the dependent resurvey of portions of the west and north boundaries, and subdivisional lines, and the subdivision of sections 20 and 21, T. 15 S., R. 38 E., of the Boise Meridian, Idaho, Group Number 1258, was accepted March 19, 2009.

This survey was executed at the request of the Bureau of Indian Affairs to meet certain administrative and management purposes. The lands surveyed are: The plat representing the dependent resurvey of portions of the east boundary and subdivisional lines, and the metes-and-bounds surveys of portions of the former Utah and Northern Railroad and Oregon short line railroad right-of-way (currently operated by Union Pacific Railroad) within the city of McCammon, Idaho, and along the routes going north, south, and east, and the metes-and-bounds survey of the Oregon Short Railroad Company, Oregon Branch, waterline, within sections 12 and 13, T. 9 S., R. 36 E., Boise Meridian, Idaho, Group Number 1251, was accepted February 20, 2009.

Dated: April 3, 2009.
Stanley G. French,
Chief Cadastral Surveyor for Idaho.

[FR Doc. E9-10148 Filed 5-1-09; 8:45 am]

BILLING CODE 4310-GG-P